DEPARTMENT OF ENERGY

Federal Energy Regulatory Commission

[Project No. 137-002]

Pacific Gas & Electric Company; Notice of Meetings

June 1, 2000.

Take notice there will be meetings of the Ecological Resources subgroup of the Mokelumne Relicensing Collaborative on June 7-8, and 13-15, 2000. There will be meetings of the Recreation subgroup on June 8 and 14-15, 2000. The Ecological Resources and Recreation subgroups will meeting jointly on June 9, 2000. The Full Collaborative will meet on June 21-22, and 28-29, 2000. These meetings will be held from 9 a.m. to 4 p.m. at 2740 Gateway Oaks Drive, in Sacramento, California. Expected participants need to give their names to David Moller (PG&E) at (415) 973-4696.

For further information, please contact Diana Shannon at (202) 208-7774.

David P. Boergers,
Secretary.

[FR Doc. 00-14227 Filed 6-6-00; 8:45 am]

BILLING CODE 6717-01-M